DEPARTMENT OF COMMERCE

International Trade Administration

[A-570-887]

Tetrahydrofurfuryl Alcohol From the People's Republic of China: Continuation of Antidumping Duty Order

AGENCY: Enforcement and Compliance, International Trade Administration, Department of Commerce.

SUMMARY: As a result of the determinations made by the Department of Commerce (the “Department”) and the International Trade Commission (the “ITC”) that revocation of the antidumping duty (“AD”) order on tetrahydrofurfuryl alcohol (“THFA”) from the People's Republic of China (“PRC”) would likely lead to a continuation or recurrence of dumping and material injury to an industry in the United States, the Department is publishing a notice of continuation of the antidumping duty order.

DATES: Effective Date: April 16, 2015.

FOR FURTHER INFORMATION CONTACT: Paul Stolz, AD/CVD Operations, Office III, Enforcement and Compliance, International Trade Administration, U.S. Department of Commerce, 14th Street and Constitution Avenue NW., Washington, DC 20230; telephone: (202) 482-4474.

SUPPLEMENTARY INFORMATION:

Background

On June 18, 2004, the Department published the final determination of sales at less than fair value on THFA from the PRC in the United States.¹ On August 6, 2004, the Department published the AD Order with respect to imports of THFA from the PRC.²

¹ See Final Determination of Sales at Less Than Fair Value: Tetrahydrofurfuryl Alcohol From the People's Republic of China, 69 FR 34130 (June 18, 2004) (“Final Determination”).

² See Notice of Antidumping Duty Order: Tetrahydrofurfuryl Alcohol from the People's Republic of China, 69 FR 47911 (August 6, 2004) (“Order”).

There have been no administrative reviews since issuance of the AD Order. There have been no related findings or rulings (e.g., changed circumstances review, scope ruling, duty absorption review, etc.) since issuance of the Order. The Order remains in effect for all producers and exporters of subject merchandise.

On November 5, 2009, the final results of the first expedited sunset review of THFA published in the Federal Register.³ In the First Sunset, the Department found that revocation of the AD Order would be likely to lead to continuation or recurrence of dumping.⁴ In addition, the ITC determined, pursuant to section 751(c) of the Tariff Act of 1930, as amended (“Act”), that revocation of the AD Order would be likely to lead to continuation or recurrence of material injury to an industry in the United States within a reasonably foreseeable time.⁵ Thus, the Department published the notice of continuation of the AD Order on December 16, 2009.⁶

³ See Tetrahydrofurfuryl Alcohol From the People's Republic of China: Final Results of the Expedited Sunset Review of the Antidumping Duty Order, 74 FR 57290 (November 5, 2009) (“First Sunset”).

⁴ Id.

⁵ See Tetrahydrofurfuryl Alcohol from China, Investigation No. 731-TA-1046 (Review), USITC Publication 4118, (November 2009); see also Tetrahydrofurfuryl Alcohol from China, 74 FR 63788 (December 4, 2009).

⁶ See Tetrahydrofurfuryl Alcohol from the People's Republic of China: Continuation of the Antidumping Duty Order, 74 FR 66616 (December 16, 2009) (“Continuation Notice”).

On November 3, 2014, the Department initiated the second sunset review of the AD Order on THFA from the PRC pursuant to section 751(c) of the Act.⁷ As a result of its review, the Department determined that revocation of the antidumping duty order on THFA from the PRC would likely lead to a continuation or recurrence of dumping and, therefore, notified the ITC of the magnitude of the margins likely to prevail should the order be revoked.⁸ On April 9, 2015, the ITC published its determination, pursuant to section 751(c) of the Act, that revocation of the antidumping duty order on THFA from the PRC would likely lead to a continuation or recurrence of material injury to an industry in the United States within a reasonably foreseeable time.⁹

⁷ See Initiation of Five-year (“Sunset”) Review, 79 FR 65186 (November 3, 2014) (“Sunset Initiation”).

⁸ See Tetrahydrofurfuryl Alcohol from the People's Republic of China: Final Results of the Second Expedited Sunset Review of the Antidumping Duty Order, 80 FR 12981 (March 12, 2015) and accompanying Issues and Decision Memorandum.

⁹ See Tetrahydrofurfuryl Alcohol from China: Determination, 80 FR 19092 (April 9, 2015); see also Tetrahydrofurfuryl Alcohol from China, Investigation No. 731-TA-1046 (Second Review), USITC Publication 4524 (April 2015).

Scope of the Order

The product covered by this order is THFA (C5H10O2). THFA, a primary alcohol, is a clear, water white to pale yellow liquid. THFA is a member of the heterocyclic compounds known as furans and is miscible with water and soluble in many common organic solvents. THFA is currently classifiable in the Harmonized Tariff Schedules of the United States (“HTSUS”) under subheading 2932.13.00.00. Although the HTSUS subheadings are provided for convenience and for customs purposes, the Department's written description of the merchandise subject to the order is dispositive.

Continuation of the Order

As a result of the determinations by the Department and the ITC that revocation of the AD order would likely lead to a continuation or recurrence of dumping and material injury to an industry in the United States, pursuant to section 751(d)(2) of the Act, the Department hereby orders the continuation of the AD Order on THFA from the PRC. U.S. Customs and Border Protection will continue to collect AD cash deposits at the rates in effect at the time of entry for all imports of subject merchandise. The effective date of the continuation of the order will be the date of publication in the Federal Register of this notice of continuation. Pursuant to section 751(c)(2) of the Act, the Department intends to initiate the next five-year review of the order not later than 30 days prior to the fifth anniversary of the effective date of continuation.

This five-year (“sunset”) review and this notice are in accordance with section 751(c) of the Act and published pursuant to section 777(i)(1) of the Act.

Dated: April 10, 2015.
Ronald K. Lorentzen,
Acting Assistant Secretary for Enforcement and Compliance.

[FR Doc. 2015-08766 Filed 4-15-15; 8:45 am]

BILLING CODE 3510-DS-P